DEPARTMENT OF DEFENSE

Department of the Air Force

Proposed Collection; Comment Request

AGENCY: Department of the Air Force, DoD.

ACTION: Notice.

In compliance with section 3506(c)(2)(A) of the Paperwork Reduction Act of 1995, Headquarters Air Force Reserve Officer Training Corps announces the proposed reinstatement of a public information collection and seeks public comment on the provisions thereof. Comments are invited on: (a) Whether the proposed collection of information is necessary for the proper performance of the agency, including whether the information shall have practical utility; (b) the accuracy of the agency's estimate of the burden of the proposed information collection; (c) ways to enhance the quality, utility, and clarity of the information to be collected; and (d) ways to minimize the burden of the information collection on respondents, including the use of automated collection techniques or other forms of information technology.

DATES: Consideration will be given to all comments received by November 20, 2000.

ADDRESSES: Written comments and recommendations on the proposed information collections should be sent to HQ AFROTC/RRU, 551 East Maxwell Boulevard, Maxwell AFB, AL 36112-6106. Comments can also be submitted via e-mail to kyle.monson@maxwell.af.mil.

FOR FURTHER INFORMATION CONTACT: To request more information on this proposed collection or to obtain a copy of the proposal and associated collection instruments, please write to the above addresses or call (334) 953-2829.

Title, Associated Form, and OMB Number: Application for AFROTC Membership, OMB Number 0701-0105.

Needs and Uses: To obtain the information needed by HQ AFROTC and the AFROTC Detachment on which to base a decision of acceptance/nonacceptance to be a member of AFROTC.

Affected Public: College students who apply to join Air Force ROTC.

Annual Burden Hours: 4,000.

Number of Respondents: 12,000.

Responses Per Respondent: 1.

Average Burden Per Response: 20 Minutes.

Frequency: On occasion.

SUPPLEMENTARY INFORMATION:

Summary of Information Collection

Respondents are college students who apply for membership in Air Force ROTC. The collected data is used to determine whether or not an applicant is eligible to join the Air Force ROTC program and, if accepted, the enrollment status of the applicant within the program. Upon acceptance into the program, the collected information is used to establish personal records for Air Force ROTC cadets. Eligibility for membership cannot be determined if this information is not collected.

Janet A. Long,
Air Force Federal Register Liaison Officer.

[FR Doc. 00-21204 Filed 8-18-00; 8:45 am]

BILLING CODE 5001-05-U